DEPARTMENT OF THE INTERIOR

National Park Service

Notice of Inventory Completion for Native American Human Remains and Associated Funerary Objects in the Possession of the State University of West Georgia, Carrollton, GA, and in the Control of the Georgia Department of Transportation, Atlanta, GA; Correction

AGENCY: National Park Service, Interior.

ACTION: Notice.

Notice is here given in accordance with the Native American Graves Protection and Repatriation Act (NAGPRA), 25 U.S.C. 3003, of the completion of an inventory of human remains and associated funerary objects in the possession of the State University of West Georgia, Carrollton, GA, and in the control of the Georgia Department of Transportation, Atlanta, GA. The human remains and associated funerary objects were removed from Richmond County, GA.

This notice is published as part of the National Park Service’s administrative responsibilities under NAGPRA, 25 U.S.C. 3003 (d)(3). The determinations within this notice are the sole responsibility of the museum, institution, or Federal agency that has control of the Native American human remains and associated funerary objects. The National Park Service is not responsible for the determinations within this notice.

This notice corrects the number of associated funerary objects reported in a Notice of Inventory Completion published in the Federal Register on January 11, 2002 (FR Doc 02-734, page 1507). The notice described the human remains of one Native American individual and six associated funerary objects, including one partial shell-tempered plain globular jar with flaring rim. Although the partial globular jar was included in the Rae’s Creek inventory of human remains and associated funerary objects, the jar (accession number 303) has not been located thus far in the Rae’s Creek collection or in any of the curated collections at the Antonio J. Waring, Jr., Archaeology Laboratory, State University of West Georgia, Carrollton, GA. The original notice is corrected by substituting paragraphs four through seven with the following paragraphs --

In 1988, human remains representing one individual were excavated from the Rae’s Creek site (9Ri327), Richmond County, GA, by Dr. Morgan R. Crook, Jr., of Georgia State University, Atlanta, GA. The work was conducted as part of a highway construction project under Georgia Department of Transportation/Federal Highway Administration contract M-750 (4). The remains are curated at the Antonio J. Waring, Jr., Archaeology Laboratory, State University of West Georgia, Carrollton, GA. No known individual was identified. The five associated funerary objects are two columella shell ear pins, two faceted glass beads, and one chert biface.

The Rae’s Creek site is located near the confluence of Rae’s Creek and the Savannah River. The human remains and associated funerary objects date to the early 1700s based on the artifacts recovered from the site, such as the faceted glass beads, which date to that time period. The artifacts suggest a Creek Indian affiliation. Consultation evidence presented by representatives of the Creek tribal governments indicates that this area was within the traditional occupation territory of the Creeks during this time period.

Officials of the Georgia Department of Transportation have determined that, pursuant to 43 CFR 10.2 (d)(1), the human remains described above represent the physical remains of one individual of Native American ancestry. Officials of the Georgia Department of Transportation also have determined that, pursuant to 43 CFR 10.2 (d)(2), the five objects described above are reasonably believed to have been placed with or near individual human remains at the time of death or later as part of the death rite or ceremony. Lastly, officials of the Georgia Department of Transportation also have determined that, pursuant to 43 CFR 10.2 (e), there is a relationship of shared group identity that can be reasonably traced between the Native American human remains and associated funerary objects and the Alabama-Quassarte Tribal Town, Oklahoma; Kialegee Tribal Town, Oklahoma; Muscogee (Creek) Nation, Oklahoma; Poarch Band of Creek Indians of Alabama; and Thlopthlocco Tribal Town, Oklahoma.

Representatives of any other Indian tribe that believes itself to be culturally affiliated with the human remains and associated funerary objects should contact Eric Anthony Duff, NAGPRA Coordinator, Georgia Department of Transportation, Office of Environment/Location, 3993 Aviation Circle, Atlanta, GA 30336-1593, telephone (404) 699-4437, facsimile (404) 699-4440, e-mail eric.duff@dot.state.ga.us, before September 15, 2003. Repatriation of the human remains and associated funerary objects to the Alabama-Quassarte Tribal Town, Oklahoma; Kialegee Tribal Town, Oklahoma; Muscogee (Creek) Nation, Oklahoma; Poarch Band of Creek Indians of Alabama; and Thlopthlocco Tribal Town, Oklahoma may proceed after that date if no additional claimants come forward.

The Georgia Department of Transportation is responsible for notifying the Alabama-Quassarte Tribal Town, Oklahoma; Kialegee Tribal Town, Oklahoma; Muscogee (Creek) Nation, Oklahoma; Poarch Band of Creek Indians of Alabama; and Thlopthlocco Tribal Town, Oklahoma that this notice has been published.

Dated: July 3, 2003.
John Robbins,
Assistant Director, Cultural Resources.

[FR Doc. 03-20758 Filed 8-13-03; 8:45 am]

BILLING CODE 4310-70-S